DEPARTMENT OF HOUSING AND URBAN DEVELOPMENT

24 CFR Parts 214, 1000, and 1003

[Docket No. FR-6322-P-01]

RIN 2502-AJ64

Certification of Tribal Housing Counselors

AGENCY: Office of the Assistant Secretary for Housing—Federal Housing Commissioner, Department of Housing and Urban Development (HUD); Office of the Assistant Secretary for Public and Indian Housing, HUD.

ACTION: Proposed rule.

SUMMARY: HUD's Housing Counseling Program provides, through HUD-approved counseling agencies and State housing finance agencies, counseling to individuals seeking information about financing, maintaining, renting, or owning a home. The Dodd-Frank Wall Street Reform and Consumer Protection Act amended the Housing and Urban Development Act of 1968 to improve the effectiveness of the housing counseling program by, among other things, requiring that entities and individual counselors be certified by HUD as competent to provide such counseling services. In 2016, HUD implemented these requirements for most HUD programs but agreed to conduct consultation with Tribes before implementing the new housing counselor certification requirement for Tribes. After consulting with Tribes, HUD proposes a housing counselor certification option for employees of Tribes, Tribally Designated Housing Entities (TDHE), and other Tribal entities conducting housing counseling required or provided in connection with the Indian Housing Block Grant (IHBG) and the Indian Community Development Block Grant (ICDBG) programs. The proposed rule provides an alternative regulatory standard for compliance with the Dodd-Frank Act's counselor certification requirement that recognizes Tribal sovereignty and self-determination, and accounts for the unique status of Tribal land and housing programs in Indian Country.

DATES: Comment due date: March 27, 2023.

ADDRESSES: Interested persons are invited to submit comments regarding this proposed rule to the Regulations Division, Office of General Counsel, Department of Housing and Urban Development, 451 7th Street SW, Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW, Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the two methods specified above. Again, all submissions must refer to the docket number and title of this proposed rule.

No Facsimile Comments. Facsimile (FAX) comments are not acceptable. Public

3. Inspection of Public Comments. All properly submitted comments and communications submitted to HUD will be available for public inspection and copying between 8 a.m. and 5 p.m., weekdays, at the above address. Due to security measures at the HUD Headquarters building, an appointment to review the public comments must be scheduled in advance by calling the Regulations Division at 202-708-3055 (this is not a toll-free number). HUD welcomes and is prepared to receive calls from individuals who are deaf or hard of hearing, as well as individuals with speech or communication disabilities. To learn more about how to make an accessible telephone call, please visit https://www.fcc.gov/consumers/guides/telecommunications-relay-service-trs.

Copies of all comments submitted are available for inspection and downloading at www.regulations.gov.

FOR FURTHER INFORMATION CONTACT: David Valdez, Office of Housing Counseling, Office of Housing, Department of Housing and Urban Development, 1331 Lamar St. Suite 550, Houston, TX 77002; telephone number 713-718-3178 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

In 2010, the Dodd-Frank Wall Street Reform and Consumer Protection Act (Pub. L. 111-203, 124 Stat. 1376, approved July 21, 2010) amended section 106 of the Housing and Urban Development Act of 1968 (12 U.S.C. 1701x), hereinafter referred to as section 106, established the Office of Housing Counseling (OHC) and directed HUD to issue regulations necessary to carry out the testing and certification of housing counselors in HUD programs. The section 106 amendments require that individuals providing housing counseling required under or provided in connection with HUD programs be certified by taking and passing an examination administered by HUD's Office of Housing Counseling (HUD certified housing counselors) (12 U.S.C. 1701x(e)).

A. HUD's Current Certification Requirement

On December 14, 2016, HUD published a final rule implementing the section 106 certification requirements, including the requirement that, as explained in the rule preamble, “`housing counseling' . . . that is `required by or in connection with' HUD programs, may only be provided by HUD-certified housing counselors working for HUD-approved [housing counseling agencies] that are approved to provide such housing counseling by HUD's Office of Housing Counseling.” See 81 FR 90632. However, the certification final rule stated that the application of section 106 to HUD's Native American Housing Programs would undergo consultation prior to implementation, pursuant to HUD's Government-to-Government Tribal Consultation Policy. As a result, the counselor certification requirement currently applies to all HUD programs except the IHBG and ICDBG programs.

HUD-approved housing counseling agencies must be (1) nonprofit organizations as described under section 501(c) of the Internal Revenue Code of 1986 (IRC) that are exempt from taxation under section 501(a) of the IRC; and (2) approved by HUD, in accordance with 24 CFR part 214 and section 106(e) of the Housing and Urban Development Act of 1968 (12 U.S.C. 1701x(e)), to provide housing counseling services to clients directly, or through their affiliates or branches. To become a certified housing counselor, one must be employed by a participating agency, including a HUD-approved housing counseling agency or a unit of State or local government, and pass a standardized, written housing counseling certification examination to demonstrate competency in the following areas: (1) Financial management; (2) property maintenance; (3) responsibilities of homeownership and tenancy; (4) fair housing laws and requirements; (5) housing affordability; and (6) avoidance of, and response to, rental or mortgage delinquency and avoidance of eviction or mortgage default. 24 CFR 214.103(n).

Today, only a small number of Tribal entities participate in HUD's housing counseling program. These Tribal entities have been recognized as unit of local, county, or state government or have formed a tax-exempt non-profit organization and applied to be a HUD-approved housing counseling agency and employ housing counselors directly to provide the counseling required under HUD programs. Most Tribes, TDHEs, and Tribal entities, however, remain ineligible to become HUD-approved housing counseling agencies. As such, Tribes are generally not eligible to receive HUD housing counseling grants.

B. Tribal Consultation

In 2021, HUD hosted two virtual Tribal consultations and six listening sessions to obtain feedback on the implementation of the counselor certification requirements as it applies to the IHBG and ICDGB programs. During HUD consultation sessions, Tribes raised concerns regarding a perceived lack of consideration for Tribal sovereignty and expressed concerns with applying the HUD housing counselor certification requirements to Tribes. Tribes also described the unique housing services needed in their communities and their need to self-determine their housing priorities based on local needs.

Another area of concern raised by the Tribes was the irrelevancy of some questions and lack of important content in the current counselor certification exam. For example, counseling on Tribal land requires knowledge of unique property and administrative requirements that apply to trust land and other restricted Tribal lands held in trust by the Department of the Interior. Similarly, civil rights laws pursuant to statutes like the Native American Housing Assistance and Self-Determination Act of 1996 (25 U.S.C. 4101 et seq.) (NAHASDA), which authorizes the IHBG program and the Housing and Community Development Act of 1974 (42 U.S.C. 5301 et seq.) (HCDA), which authorizes the ICDBG program, do not apply to Tribes in the manner in which they do for other HUD program participants, and current test requirements do not reflect the unique way that civil rights requirements apply to Tribes and other Tribal grantees under HUD programs.

To account for these issues, Tribes suggested HUD allow them to use another organization's Native American counseling training and exam certification (e.g., Pathways, NeighborWorks, etc.) or, in the alternative, for HUD to create a tailored Tribal counselor certification exam. Tribes also raised concerns with having to meet the requirements of the housing counseling program. Importantly, Tribes anticipated difficulty meeting threshold eligibility criteria such as being a tax-exempt nonprofit organization as described in IRC 501(c), and other requirements such as minimum number of clients served, maintaining facilities, work plan and geographic scope descriptions, professional experience, and recordkeeping and reporting. Tribes cited the unique nature of conducting Tribal counseling with limited financial and human capital resources that often lack adequate communication and physical infrastructure and the lack of availability of housing counselors in remote areas. To address these concerns, HUD was asked to exempt Tribes, TDHEs, and Tribal entities from compulsory participation in the existing housing counseling program unless the entities also provide housing counseling under, or in connection with, other HUD programs (programs other than IHBG and ICDBG).

II. This Proposed Rule

As required by the Dodd-Frank Act and after consultation with Tribes, HUD proposes to implement the certification requirements for Tribes, TDHEs, and other Tribal entities conducting housing counseling required or provided in connection with the IHBG and ICDBG programs. Housing Counseling is independent, expert advice customized to the need of the consumer to address the consumer's housing barriers and to help achieve their housing goals and must include the following processes: intake; financial and housing affordability analysis; an action plan, except for reverse mortgage counseling; and a reasonable effort to have follow-up communication with the client when possible. HUD believes this proposed rule implements counselor certification for IHBG and ICDBG, two Native American programs, in a way that considers the substantial Tribal feedback provided by Tribes during consultation while also still complying with the requirement in the Dodd-Frank Act that counseling conducted under the IHBG and ICDBG programs be carried out by HUD-certified counselors.

A. Tribal Housing Counseling Certification

This proposed rule would amend 24 CFR part 214 by adding a new subpart F to establish certification requirements that apply only for the IHBG and ICDBG programs. Specifically, for counseling “required by or in connection with” the IHBG and ICDBG programs, an individual may become a “HUD-certified housing counselor” by working for a participating agency and meeting all requirements of part 214, including passing a housing counseling certification examination under § 214.103(n), or, by working for an Indian tribe, TDHE, or other Tribal entity, and passing a housing counseling certification examination under paragraph (c) of the new § 214.6 (subpart F). The housing counseling certification examination under § 214.6(c) will be the housing counseling certification examination under § 214.103(n) with adjustments to certain exam components for tribes in a manner that comports with section 106(e)(2). Under § 214.6(d), if an individual working for an Indian tribe, TDHE, or other Tribal entity provides housing counseling for other HUD programs, however, that individual would still need to comply with the existing housing counseling certification requirement of 24 CFR 214.103(n) (e.g., pass the examination and work for a HUD-approved housing counseling agency).

With respect to any housing counselor that is providing housing counseling required by or in connection with the IHBG and ICDBG programs and qualifies to do so based on the criterion in proposed 24 CFR 214.600(b)(1), HUD strongly recommends additional training. Such training should help the counselor become knowledgeable of Federal Indian law, the unique status of trust land, the role of the Bureau of Indian Affairs in mortgage and realty-related transactions and matters, the role played by Indian tribes to grant leases on trust land, and more.

Section 106 of the Housing and Urban Development Act of 1968 (12 U.S.C. 1701x) in relevant part requires that the housing counselor demonstrate competence through a written examination showing competency in “fair housing laws and requirements.” 12 U.S.C. 1701x(e)(2)(D). Section 201(b)(6) of NAHASDA states that Title VI of the Civil Rights Act of 1964, and the Fair Housing Act “shall not apply to actions by federally recognized tribes and the tribally designated housing entities of those tribes under this Act.” The regulations at 24 CFR 1000.12 and 1003.601 state which nondiscrimination requirements apply to the IHBG and ICDBG programs, respectively. The housing counseling examination required under the new subpart F will account for this distinction of fair housing laws pertaining to Tribes. The examination will also be appropriately tailored to reflect the unique status of trust land.

HUD recognizes that costs will be incurred as a result of the written examination requirement. In the past, HUD has been able to present the examination in the most cost-efficient way feasible and offered both on-line and in-person examinations at a low cost. In addition, HUD has offered free study materials for individuals to use in preparation for the examination. HUD will seek to modify these materials to account for any tailored exam components that it develops to implement this rule.

B. New Definitions in § 214.3 and a New § 214.600

To conform to the change in the new subpart F, this proposed rule would amend the definition of “HUD certified housing counselor” at § 214.3. Under the current definition, certification requires passing the HUD Certification exam and working for a participating housing counseling agency. Given the proposal to expand a certified counselor to include one who is certified by HUD as competent to provide housing counseling services pursuant to the new § 214.600, this definition would include that additional process for becoming a certified housing counselor. This proposed rule would also add a definition of “tribally designated housing entity” at § 214.3 to codify the statutory definition at 25 U.S.C. 4103 in HUD's housing counseling regulations.

C. IHBG Housing Counseling Requires HUD Certification

This proposed rule would amend IHBG program regulations by adding § 1000.66 to require that housing counseling, as defined in 24 CFR 5.100, that is funded with or provided in connection with IHBG funds must be carried out in accordance with 24 CFR 5.111. In addition, this paragraph would provide that housing counseling conducted in connection with the IHBG program may only be conducted by individuals who are HUD-certified in accordance with 24 CFR part 214, including the new requirements promulgated by this proposed rule at § 214.3 and the new § 214.600.

D. ICDBG Housing Counseling Requires HUD Certification

This proposed rule would amend ICDBG program regulations by adding § 1003.609 to require that housing counseling, as defined in 24 CFR 5.100, that is funded with or provided in connection with ICDBG funds must be carried out in accordance with 24 CFR 5.111. In addition, this paragraph would provide that housing counseling conducted in connection with the ICDBG program may only be conducted by individuals who are HUD-certified in accordance with 24 CFR part 214, including the new requirements promulgated by this proposed rule at § 214.3 and the new § 214.600.

III. Findings and Certifications

Regulatory Review—Executive Orders 12866 and 13563

Under Executive Order 12866 (Regulatory Planning and Review), a determination must be made whether a regulatory action is significant and, therefore, subject to review by the Office of Management and Budget (OMB) in accordance with the requirements of the order. Executive Order 13563 (Improving Regulations and Regulatory Review) directs executive agencies to analyze regulations that are “outmoded, ineffective, insufficient, or excessively burdensome, and to modify, streamline, expand, or repeal them in accordance with what has been learned.” Executive Order 13563 also directs that, where relevant, feasible, and consistent with regulatory objectives, and to the extent permitted by law, agencies are to identify and consider regulatory approaches that reduce burdens and maintain flexibility and freedom of choice for the public.

HUD's Housing Counseling Program provides, through HUD-approved counseling agencies and state housing finance agencies, counseling to individuals seeking information about financing, maintaining, renting, or owning a home. In 2010, the Dodd-Frank Wall Street Reform and Consumer Protection Act, Public Law 111-203 (“Dodd-Frank Act”), amended section 106 of the Housing and Urban Development Act of 1968, 12 U.S.C. 1701x, to improve the effectiveness of the housing counseling program by, among other things, requiring that entities and individual counselors be certified by HUD as competent to provide such counseling services. In 2016, HUD published a final rule implementing these requirements for most HUD programs but agreed to conduct consultation with Tribes before applying the new housing counselor certification requirement to HUD's Native American Housing Programs, pursuant to HUD's Government-to-Government Tribal Consultation Policy. As a result, the counselor certification requirement currently applies to all HUD programs except the Indian Housing Block Grant (IHBG) and Indian Community Development Block Grant (ICDBG) programs.

HUD consulted with Tribes in 2021 in accordance with HUD's Government-to-Government Tribal Consultation Policy and the January 26, 2021, Presidential Memorandum on Tribal Consultation and Strengthening Nation-to-Nation Relationships. As a result of this Tribal consultation, HUD is proposing a more streamlined housing counselor certification option for employees of Tribes, Tribally Designated Housing Entities (TDHE), and other Tribal entities conducting housing counseling required or provided in connection with the IHBG and ICDBG programs. The proposed rule would amend HUD's existing Housing Counseling Program regulations at 24 CFR part 214 to allow the relatively small number of 435 IHBG and ICDBG grantees in total to either use an existing HUD-approved housing counseling agency or to have an employee complete the housing counseling certification examination that is currently required of all counselors at HUD-approved housing counseling agencies. The proposed rule would similarly amend the IHBG and ICDBG program regulations at §§ 1000.66 and 1003.609 to require that housing counseling that is funded with or provided in connection with IHBG or ICDBG funds be carried out in accordance with existing § 5.111, and that housing counseling for these programs may only be conducted by individuals certified in accordance with 24 CFR part 214.

This proposed rule brings HUD's IHBG and ICDBG Programs into compliance with the section 106 statutory requirements, which were added by the Dodd-Frank Act and have applied to other HUD programs since 2016. This proposed rule would provide a streamlined compliance option consistent with the statutory requirement and responsive to tribal consultation. This rule was not subject to OMB review. This rule is not a “significant regulatory action” as defined in section 3(f) of Executive Order 12866, and is not an economically significant regulatory action.

Regulatory Flexibility Act

The Regulatory Flexibility Act (RFA) (5 U.S.C. 601 et seq.), generally requires an agency to conduct a regulatory flexibility analysis of any rule subject to notice and comment rulemaking requirements unless the agency certifies that the rule will not have a significant economic impact on a substantial number of small entities. This proposed rule would revise the regulations governing HUD's Housing Counseling Program to reflect changes to the program made by the Dodd-Frank Act, primarily the requirement that housing counseling required under or provided in connection with all HUD programs, including the IHBG and ICDBG programs, be carried out by certified housing counselors.

As discussed in this preamble, to date, HUD's Housing Counseling Program, under 24 CFR part 214, has not approved certification criteria for Tribes, TDHEs, and Tribal entities conducting housing counseling exclusively funded under or in connection with the IHBG and ICDBG programs. The key change made to the Housing Counseling Program by this proposed rule is the requirement to certify counselors providing counseling funded under or in connection with these two programs.

HUD has determined that the requirement for individual counselors to be certified, as proposed to be implemented by this proposed rule, will not have a significant economic impact on small entities. The rule provides a three-year transition period after the effective date of the final rule for individual counselors to be certified. This three-year period provides ample notice of the need to be skilled in the required areas. Notwithstanding HUD's determination that this proposed rule will not have a significant economic impact on a substantial number of small entities, HUD specifically invites comments regarding less burdensome alternatives to this proposed rule, that will meet HUD's objectives as described in this proposed rule.

Executive Order 13132, Federalism

Executive Order 13132 (entitled “Federalism”) prohibits an agency from publishing any rule that has federalism implications if the rule either imposes substantial direct compliance costs on state and local governments and is not required by statute, or the rule preempts state law, unless the agency meets the consultation and funding requirements of section 6 of the Executive order. This proposed rule would not have federalism implications and would not impose substantial direct compliance costs on state and local governments or preempt state law within the meaning of the Executive order.

Paperwork Reduction Act

The information collection requirements contained in this proposed rule have been submitted to the Office of Management and Budget (OMB) under the Paperwork Reduction Act of 1995 (44 U.S.C. 3501-3520). In accordance with the Paperwork Reduction Act, an agency may not conduct or sponsor, and a person is not required to respond to, a collection of information unless the collection displays a currently valid OMB control number.

The burden of the information collections in this proposed rule is estimated as follows:

Section reference | Number of respondents | Number of responses per respondent | Estimated average time for requirement (in hours) | Estimated annual burden (in hours)
24 CFR 214.600 | 99 | 2.5 | .25 | 61.875

Reporting and Recordkeeping Burden

In accordance with 5 CFR 1320.8(d)(1), HUD is soliciting comments from members of the public and affected agencies concerning this collection of information to:

(1) Evaluate whether the proposed collection of information is necessary for the proper performance of the functions of the agency, including whether the information will have practical utility;

(2) Evaluate the accuracy of the agency's estimate of the burden of the proposed collection of information;

(3) Enhance the quality, utility, and clarity of the information to be collected; and

(4) Minimize the burden of the collection of information on those who are to respond; including through the use of appropriate automated collection techniques or other forms of information technology, e.g., permitting electronic submission of responses.

Interested persons are invited to submit comments regarding the information collection requirements in this rule. Comments must refer to the proposal by name and docket number (FR-6322-P-01) and must be sent to:

HUD Desk Officer, Office of Management and Budget, New Executive Office Building, Washington, DC 20503, Fax number: (202) 395-6947

and

Colette Pollard, Reports Management Officer, Department of Housing and Urban Development, 451 Seventh Street SW, Washington, DC 20410

Environmental Impact

This proposed rule does not direct, provide for assistance or loan and mortgage insurance for, or otherwise govern or regulate real property acquisition, disposition, leasing, rehabilitation, alteration, demolition, or new construction; or establish, revise, or provide for standards for construction or construction materials, manufactured housing, or occupancy. Accordingly, under 24 CFR 50.19(c)(1), this proposed rule is categorically excluded from environmental review under the National Environmental Policy Act of 1969 (42 U.S.C. 4321).

Unfunded Mandates Reform Act

Title II of the Unfunded Mandates Reform Act of 1995 (Pub. L. 104-4; approved March 22, 1995) (UMRA) establishes requirements for Federal agencies to assess the effects of their regulatory actions on State, local, and Tribal governments, and on the private sector. This proposed rule does not impose any Federal mandates on any State, local, or Tribal government, or on the private sector, within the meaning of the UMRA.

List of Subjects

24 CFR Part 214

Administrative practice and procedure, Loan program—housing and community development, Organization and functions (government agencies), Reporting and record-keeping requirements.

24 CFR Part 1000

Aged, Community development block grants, Grant programs—housing and community development, Grant programs—Indians, Indians, Individuals with disabilities, Low and moderate income housing, Public housing, Reporting and recordkeeping.

24 CFR Part 1003

Alaska, Community development block grants, Grant programs—housing and community development, Indians, Reporting and recordkeeping requirements.

Accordingly, for the reasons stated above, HUD proposes to amend 24 CFR parts 214, 1000, and 1003 as follows:

PART 214—HOUSING COUNSELING PROGRAM

1. The authority citation for part 214 continues to read as follows:

Authority: 12 U.S.C. 1701x, 1701x-1; 42 U.S.C. 3535(d).

2. In § 214.3, revise the definition of “HUD certified housing counselor” and add the definition of “Tribally designated housing entity” in alphabetical order to read as follows:

§ 214.3 Definitions.

* * * * *

HUD certified housing counselor. A housing counselor who has passed the HUD Certification examination:

(1) Works for a participating agency and is certified by HUD as competent to provide housing counseling services pursuant to this part; or

(2) Works for an Indian tribe, tribally designated housing entity (TDHE), or other tribal entity and is certified by HUD as competent to provide housing counseling services pursuant to § 214.600.

* * * * *

Tribally designated housing entity. See definition at 25 U.S.C. 4103.

* * * * *

3. Add subpart F to read as follows:

Subpart F—Certification of Tribal Housing Counselors

§ 214.600 Tribal housing counseling certification.

(a) This subpart applies only to housing counseling required under or provided in connection with the Indian Housing Block Grant (IHBG) program or the Indian Community Development Block Grant (ICDBG) program. Indian tribes, tribally designated housing entities (TDHEs), and other tribal entities funding housing counseling required under or provided in connection with IHBG or ICDBG programs shall not be subject to the requirements of this part, except as otherwise provided in this section.

(b) Housing counseling required under or provided in connection with IHBG or ICDBG programs must be provided by a HUD-certified housing counselor. A HUD-certified housing counselor must be certified either:

(1) By working for a participating agency and complying with all the requirements of this part to include passing a housing counseling certification examination under § 214.103(n); or

(2) By working for an Indian Tribe, TDHE, or other tribal entity and passing a housing counseling certification examination under paragraph (c) of this section.

(c) HUD will certify an individual housing counselor to provide housing counseling required under or provided in connection with IHBG or ICDBG programs upon verification that the person:

(1) Passes a standardized written examination to demonstrate competency in each of the following areas:

(i) Financial management;

(ii) Property maintenance;

(iii) Responsibilities of homeownership and tenancy;

(iv) Fair housing laws and requirements;

(v) Housing affordability; and

(vi) Avoidance of, and response to, rental or mortgage delinquency and avoidance of eviction or mortgage default; and

(2) Works for an Indian tribe, TDHE, or other tribal entity.

(d) To provide housing counseling required under or provided in connection with HUD programs other than the IHBG and ICDBG programs, an individual working for an Indian tribe, TDHE, or other tribal entity must meet the housing counseling certification requirement under § 214.103(n) (e.g., pass the examination and work for a HUD-approved housing counseling agency).

PART 1000—NATIVE AMERICAN HOUSING ACTIVITIES

4. The authority citation for part 1000 continues to read as follows:

Authority: 25 U.S.C. 4101 et seq.; 42 U.S.C. 3535(d).

5. Add § 1000.66 to read as follows:

§ 1000.66 Housing counseling.

Housing counseling, as defined in 24 CFR 5.100, that is required under or provided in connection with IHBG funds must be carried out in accordance with 24 CFR 5.111. Housing counseling conducted in connection with the IHBG program may only be conducted by individuals who are HUD-certified in accordance with 24 CFR part 214.

PART 1003—COMMUNITY DEVELOPMENT BLOCK GRANTS FOR INDIAN TRIBES AND ALASKA NATIVE VILLAGES

6. The authority citation for part 1003 continues to read as follows:

Authority: 42 U.S.C. 3535(d) and 5301 et seq.

7. Add § 1003.609 to read as follows:

§ 1003.609 Housing counseling.

Housing counseling, as defined in 24 CFR 5.100, that is funded with or provided in connection with ICDBG funds must be carried out in accordance with 24 CFR 5.111. Housing counseling conducted in connection with the ICDBG program may only be conducted by individuals who are HUD-certified in accordance with 24 CFR part 214.

Julia Gordon,
Office of the Assistant Secretary for Housing—Federal Housing Administration Commissioner.
Dominique Blom,
General Deputy Assistant Secretary, Office of Public and Indian Housing.

[FR Doc. 2023-01345 Filed 1-25-23; 8:45 am]

BILLING CODE 4210-67-P